DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of 27 individuals and 9 entities whose property and interests in property have been unblocked pursuant to Executive Order 12978 of October 21, 1995, “Blocking Assets and Prohibiting Transactions With Significant Narcotics Traffickers”.

DATES: The unblocking and removal from the list of Specially Designated Nationals and Blocked Persons (“SDN List”) of the 27 individuals and 9 entities identified in this notice whose property and interests in property were blocked pursuant to Executive Order 12978 of October 21, 1995, is effective on December 12, 2012.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On December 12, 2012, the Director of OFAC removed from the SDN List the 27 individuals and 9 entities listed below, whose property and interests in property were blocked pursuant to the Order:

Individuals

1. ALVARADO BONILLA, Alejandro, c/o DROGAS LA REBAJA BOGOTA S.A., Bogota, Colombia; DOB 29 May 1974; Cedula No. 79641039 (Colombia) (individual) [SDNT].

2. AMADOR CEDIEL, Fernando, c/o APVA S.A., Cali, Colombia; c/o CECEP EDITORES S.A., Cali, Colombia; c/o CECEP S.A., Cali, Colombia; c/o NEGOCIOS Y CAPITALES S.A., Pereira, Colombia; c/o RFA CONSULTORES Y AUDITORES LTDA., Cali, Colombia; c/o WORLD LINE SYSTEM S.A., Palmira, Valle, Colombia; Avenida 9A No. 25N-30, Cali, Colombia; DOB 12 Oct 1962; POB Sogamoso, Boyaca, Colombia; Cedula No. 16683047 (Colombia); Passport AG830763 (Colombia) (individual) [SDNT].

3. ARDILA PICO, Rosalba, c/o COMUDROGAS LTDA., Bucaramanga, Colombia; Cedula No. 63332705 (Colombia) (individual) [SDNT].

4. BARRIOS, Alba Lucia, Los Alcazares Bloq. 93 Ap. 402, Cali, Colombia; c/o CREDIREBAJA S.A., Cali, Colombia; c/o POLIEMPAQUES S.A., Cali, Colombia; c/o SONAR F.M. E.U. DIETER MURRLE, Cali, Colombia; c/o SONAR F.M. S.A., Cali, Colombia; Cedula No. 38853130 (Colombia) (individual) [SDNT].

5. BENOIT SANTAMARIA, Alvaro Jose, c/o BENOIT VELEZ AGROPECUARIA LA VEREDA Y CIA. S.C.S., Pereira, Colombia; Calle 24 No. 7-29 apto. 413, Pereira, Colombia; DOB 23 Oct 1964; POB Cali, Colombia; Cedula No. 16704710 (Colombia); Passport AH283771 (Colombia) (individual) [SDNT].

6. CAICEDO GALLEGO, Maria Nury (a.k.a. CAYCEDO GALLEGO, Maria Nury), 85 Brainerd Road, Townhouse 9, Allston, MA 02134; Calle 2 Casa No. 4-13, Barrio San Isidro, Venezuela; Calle 90 No. 10-05, Bogota, Colombia; Avenida 11 No. 7N-166, Cali, Colombia; 18801 Collins Ave., Apt. 322-3, Sunny Isles Beach, FL 33160; Diagonal 130 No. 7-20, Apt. 806, Bogota, Colombia; c/o COLOMBO ANDINA COMERCIAL COALSA LTDA., Bogota, Colombia; c/o INVERSIONES AGROINDUSTRIALES DEL OCCIDENTE LTDA., Bogota, Colombia; c/o COMPANIA AGROPECUARIA DEL SUR LTDA., Bogota, Colombia; c/o DIMABE LTDA., Bogota, Colombia; c/o SALOME GRAJALES Y CIA. LTDA., Bogota, Colombia; DOB 16 Nov 1956; POB Tulua, Valle, Colombia; nationality Colombia; citizen Colombia; Cedula No. 31191388 (Colombia); Passport AH286341 (Colombia); alt. Passport AE889461 (Colombia); SSN 594-33-3352 (United States) issued 1993 (individual) [SDNT].

7. CARDONA RUEDA, Fernando Ivan, c/o COINTERCOS S.A., Bogota, Colombia; c/o DROGAS LA REBAJA BOGOTA S.A., Bogota, Colombia; c/o LABORATORIOS KRESSFOR DE COLOMBIA S.A., Bogota, Colombia; DOB 29 Apr 1957; Cedula No. 16607447 (Colombia) (individual) [SDNT].

8. DOMINGUEZ HERNANDEZ, Fernando Antonio, c/o DISMERCOOP, Cali, Colombia; DOB 07 Aug 1964; Cedula No. 16701778 (Colombia) (individual) [SDNT].

9. FAJARDO, Mary Victoria, c/o APVA S.A., Cali, Colombia; c/o CECEP EDITORES S.A., Cali, Colombia; c/o CECEP S.A., Cali, Colombia; c/o NEGOCIOS Y CAPITALES S.A., Pereira, Colombia; c/o WORLD LINE SYSTEM S.A., Palmira, Valle, Colombia; Cali, Colombia; Cedula No. 31923020 (Colombia) (individual) [SDNT].

10. FLOREZ UPEGUI, Carlos Jairo, c/o FLOREZ HERMANOS LTDA., Medellin, Colombia; nationality Colombia; citizen Colombia; Cedula No. 70660584 (Colombia) (individual) [SDNT].

11. FLOREZ UPEGUI, Elkin de Jesus, c/o FLOREZ HERMANOS LTDA., Medellin, Colombia; c/o INVERSIONES FLOREZ Y FLOREZ Y CIA S.C.A., Medellin, Colombia; nationality Colombia; citizen Colombia; Cedula No. 70660660 (Colombia) (individual) [SDNT].

12. GONZALEZ QUINTERO, Melba Patricia, c/o DISTRIBUIDORA DE DROGAS CONDOR S.A., Bogota, Colombia; c/o COINTERCOS S.A., Bogota, Colombia; c/o FIDUSER LTDA., Bogota, Colombia; c/o AMERICANA DE COSMETICOS S.A., Bogota, Colombia; c/o COSMEPOP, Bogota, Colombia; c/o LATINA DE COSMETICOS S.A. Y DISTRIBUCIONES S.A., Bogota, Colombia; DOB 24 Dec 1971; Cedula No. 35415232 (Colombia); Passport 35415232 (Colombia) (individual) [SDNT].

13. IDARRAGA ORTIZ, Jaime, c/o DISTRIBUIDORA DE DROGAS CONDOR LTDA., Bogota, Colombia; c/o DISTRIBUIDORA MIGIL LTDA., Cali, Colombia; c/o DISTRIBUIDORA DE DROGAS LA REBAJA S.A., Bogota, Colombia; c/o DEPOSITO POPULAR DE DROGAS S.A., Cali, Colombia; c/o INTERAMERICA DE CONSTRUCCIONES S.A., Cali, Colombia; c/o INVERSIONES CAMINO REAL S.A., Cali, Colombia; c/o BLANCO PHARMA S.A., Bogota, Colombia; c/o DROGAS LA REBAJA BOGOTA S.A., Bogota, Colombia; c/o FARMATODO S.A., Bogota, Colombia; c/o LABORATORIOS BLAIMAR DE COLOMBIA S.A., Bogota, Colombia; c/o LABORATORIOS KRESSFOR DE COLOMBIA S.A., Bogota, Colombia; DOB 14 Dec 1941; Cedula No. 8237011 (Colombia) (individual) [SDNT].

14. LONDONO VELEZ, Roberto, c/o ASESORIAS PROFESIONALES LTDA., Armenia, Colombia; Calle 13 No. 101-50, Armenia, Quindio, Colombia; Calle 19 No. 12-49, Apt. 504, Armenia, Quindio, Colombia; DOB 17 Dec 1958; POB Cali, Colombia; alt. POB Armenia, Quindio, Colombia; citizen Colombia; Cedula No. 7527342 (Colombia); Passport AI520011 (Colombia) (individual) [SDNT].

15. LUQUE AGUILERA, Maria Monserrat, Calle 6A No. 22-46, Medellin, Colombia; Calle Meridiana No. 35, Malaga, Spain; DOB 22 Feb 1963; POB Medellin, Colombia; Cedula No. 43051926 (Colombia); D.N.I. 44598335R (Spain) (individual) [SDNT].

16. MARTAN RODRIGUEZ, Oscar Ignacio, c/o CORPORACION CLUB DEPORTIVO TULUA, Tulua, Valle, Colombia; c/o AGROPECUARIA LINDARAJA S.A., Cali, Colombia; c/o INVERSIONES BRASILAR S.A., Bogota, Colombia; Calle 27 No. 38A-26, Tulua, Valle, Colombia; Carrera 33A No. 19-67, Tulua, Valle, Colombia; DOB 08 Feb 1958; POB Guapi, Cauca, Colombia; nationality Colombia; citizen Colombia; Cedula No. 19365692 (Colombia); Passport AJ534873 (Colombia) issued 23 Jun 2005 expires 23 Jun 2015; alt. Passport AF775306 (Colombia); alt. Passport AD445570 (Colombia) expires 12 Jun 1992 (individual) [SDNT].

17. MEOUCHI SAADE, Pablo Agustin, c/o GRUPO IRUNA, S.A. DE C.V., Mexico, Distrito Federal, Mexico; c/o GRUPO JEZINNE, S.A. DE C.V., Mexico, Distrito Federal, Mexico; c/o INDUSTRIALIZADORA PURECORN, S.A. DE C.V., Mexico, Distrito Federal, Mexico; c/o MASA FACIL, S.A. DE C.V., Mexico, Distrito Federal, Mexico; DOB 17 Oct 1962; POB Distrito Federal, Mexico; Passport 330020001 (Mexico); C.U.R.P. MESP621017HDFCDB05 (Mexico) (individual) [SDNT].

18. MONTALVO GUZMAN, Luis Federico, c/o COPSERVIR LTDA., Bogota, Colombia; Cedula No. 14953049 (Colombia) (individual) [SDNT].

19. MONTOYA MARTINEZ, Juan Carlos, c/o AGROPECUARIA LA ROBLEDA S.A., Cali, Colombia; c/o AGROPECUARIA BETANIA LTDA., Cali, Colombia; c/o INVERSIONES VILLA PAZ S.A., Cali, Colombia; c/o INDUSTRIA AVICOLA PALMASECA S.A., Cali, Colombia; DOB 11 Oct 1966; Cedula No. 16801475 (Colombia) (individual) [SDNT].

20. MUNOZ NARVAEZ, Yamileth, c/o COMERCIALIZADORA INTERTEL S.A., Cali, Colombia; c/o COOPERATIVA MULTIACTIVA DE COLOMBIA FOMENTAMOS, Bogota, Colombia; c/o DISTRIBUIDORA SANAR DE COLOMBIA S.A., Cali, Colombia; DOB 30 Dec 1970; Cedula No. 66825769 (Colombia); Passport 66825769 (Colombia) (individual) [SDNT].

21. MUVDY BERBESY, Salua Teresa, Avenida Las Americas No. 21N-50 Ofc. 702, Cali, Colombia; c/o PARQUE INDUSTRIAL PROGRESO S.A., Yumbo, Colombia; c/o CIA. MINERA DAPA S.A., Bogota, Colombia; c/o CONSTRUCTORA PYNZAR LTDA., Cali, Colombia; DOB 30 Jan 1959; POB Barranquilla, Atlantico, Colombia; Cedula No. 32639757 (Colombia); Passport 32639757 (Colombia) (individual) [SDNT].

22. OSORIO VALENCIA, James Augusto, c/o INVERSIONES BRASILAR S.A., Bogota, Colombia; c/o AGROPECUARIA LINDARAJA S.A., Cali, Colombia; Carrera 26 No. 8-60, Cali, Colombia; Calle 4N No. 1-10, Apt. 901, Cali, Valle, Colombia; DOB 16 Nov 1959; POB Miranda, Cauca, Colombia; nationality Colombia; citizen Colombia; Cedula No. 14880646 (Colombia); Passport AG940978 (Colombia); alt. Passport AE758158 (Colombia) (individual) [SDNT].

23. PINSKY SARAGOVIA, Ezequiel, Avenida Las Americas No. 21N-50, Cali, Colombia; c/o PARQUE INDUSTRIAL PROGRESO S.A., Yumbo, Colombia; c/o CIA. MINERA DAPA S.A., Bogota, Colombia; c/o CONSTRUCTORA PYNZAR LTDA., Cali, Colombia; c/o PYZA E.U., Cali, Colombia; c/o NOVAPINSKI LTDA., Cali, Colombia; Cedula No. 14932390 (Colombia); Passport 14932390 (Colombia) (individual) [SDNT].

24. ROLDAN SALCEDO, Fabio, c/o CONSTRUCTORA SANTA TERESITA S.A., Cali, Colombia; DOB 08 Aug 1954; POB Buga, Valle, Colombia; Cedula No. 14875349 (Colombia) (individual) [SDNT].

25. ROLDAN SALCEDO, Milena, c/o CARMILE INVERSIONES LOPEZ Y CIA. S.C.A., Cali, Colombia; c/o INVERSIONES MEDICAS Y QUIRUGICAS ESPECIALIZADAS LTDA., Cali, Colombia; c/o UNIVISA S.A., Cali, Colombia; DOB 09 Feb 1960; Cedula No. 38858586 (Colombia); Passport PO66565 (Colombia) (individual) [SDNT].

26. SANCHEZ CANDELO, Piedad Rocio, c/o CALI @ TELE.COM LTDA., Cali, Valle, Colombia; c/o COMUNICACIONES ABIERTAS CAMARY LTDA., Cali, Valle, Colombia; DOB 20 Nov 1952; POB Colombia; Cedula No. 31252839 (Colombia) (individual) [SDNT].

27. VELEZ MONTES, William, Calle 92 No. 19-70 Apt. 304, Bogota, Colombia; c/o INTERCONTINENTAL DE AVIACION S.A., Bogota, Colombia; c/o INVERSIONES Y COMERCIALIZADORA INCOM LTDA., Cali, Colombia; DOB 24 May 1943; POB Tulua, Valle, Colombia; Cedula No. 17086144 (Colombia); Passport AF870847 (Colombia); alt. Passport PE019274 (Colombia); alt. Passport PE029301 (Colombia) (individual) [SDNT].

Entities

1. BENOIT VELEZ AGROPECUARIA LA VEREDA Y CIA. S.C.S., Carrera 4 No. 26-14, Pereira, Colombia; NIT #816005088-0 (Colombia) [SDNT].

2. CONSTRUCTORA PYNZAR LTDA., Avenida 3 No. 21-50, Cali, Colombia; Avenida 3 No. 21-50 Apt. 800, Cali, Colombia; Avenida 3 Norte No. 21-44, Cali, Colombia; NIT #800240723-8 (Colombia) [SDNT].

3. GRUPO IRUNA, S.A. DE C.V., Avenida Insurgentes Sur No. 1605, Local 41, Colonia San Jose Insurgentes, Delegacion Benito Juarez, Mexico, Distrito Federal C.P. 03900, Mexico; R.F.C. GIR-070508-MK0 (Mexico) [SDNT].

4. GRUPO JEZINNE, S.A. DE C.V., Mexico, Distrito Federal, Mexico; Folio Mercantil No. 365647 (Mexico) issued 19 Jun 2007 [SDNT].

5. INDUSTRIALIZADORA PURECORN, S.A. DE C.V., Avenida Insurgentes Sur 933 202, Colonia Napoles, Delegacion Benito Juarez, Mexico, Distrito Federal C.P. 03810, Mexico; Calle Obrero Mundial No. 154, Colonia Del Valle, Delegacion Benito Juarez, Mexico, Distrito Federal C.P. 03100, Mexico; Camino Viejo a Coatepec s/n, Ixtapaluca, Estado de Mexico C.P. 56580, Mexico; R.F.C. IPU-030318-C6A (Mexico) [SDNT].

6. INVERSIONES FLOREZ Y FLOREZ Y CIA S.C.A. (a.k.a. FLOREZ Y FLOREZ Y CIA S.C.A.), Carrera 65 No. 34-35, Medellin, Colombia; NIT #811036947-7 (Colombia) [SDNT].

7. NOVAPINSKI LTDA., Avenida 3 No. 21-50, Cali, Colombia; NIT #800246936-7 (Colombia) [SDNT].

8. PYZA E.U., Avenida 3 No. 21-50, Cali, Colombia; NIT #805015054-3 (Colombia) [SDNT].

9. RFA CONSULTORES Y AUDITORES LTDA., Avenida 6 Norte No. 23N-85, Cali, Colombia; NIT #805025427-1 (Colombia) [SDNT].

Dated: December 12, 2012.
Adam J. Szubin,
Director, Office of Foreign Assets Control.

[FR Doc. 2012-30411 Filed 12-17-12; 8:45 am]

BILLING CODE 4810-AL-P